ENVIRONMENTAL PROTECTION AGENCY

[FRL-8742-4]

EPA Science Advisory Board Staff Office; Notification of a Public Teleconference Meeting of the Chartered Science Advisory Board

AGENCY: Environmental Protection Agency (EPA).

ACTION: Notice.

SUMMARY: The EPA Science Advisory Board (SAB) Staff Office announces two public teleconference meetings of the chartered SAB to: (1) Conduct its quality review of several draft SAB reports, and (2) to receive a briefing from EPA on biofuels.

DATES: The meeting dates are Tuesday, December 9, 2008, from 1 p.m. to 3 p.m. (Eastern Time) and Tuesday, December 16, 2008, from 11 a.m. to 12 p.m. (Eastern Time).

Location: The meeting will be conducted by telephone only.

FOR FURTHER INFORMATION CONTACT: Any member of the public wishing to obtain general information concerning this public teleconference meeting should contact Mr. Thomas Miller, Designated Federal Officer (DFO), EPA Science Advisory Board (1400F), 1200 Pennsylvania Avenue, NW., Washington, DC 20460; via telephone/voice mail (202) 343-9982; fax (202) 233-0643; or e-mail at miller.tom@epa.gov. General information concerning the EPA Science Advisory Board can be found on the SAB Web site at http://www.epa.gov/sab.

SUPPLEMENTARY INFORMATION: The SAB was established by 42 U.S.C. 4365 to provide independent scientific and technical advice to the Administrator on the technical basis for Agency positions and regulations. The SAB is a Federal advisory committee chartered under the Federal Advisory Committee Act (FACA), as amended, 5 U.S.C., App. The SAB will comply with the provisions of FACA and all appropriate SAB Staff Office procedural policies. Pursuant to the Federal Advisory Committee Act, Public Law 92-463, notice is hereby given that the EPA SAB will hold a public teleconference meeting to conduct several quality reviews and to receive a briefing on biofuels by EPA representatives.

Background: SAB Telephone Conference, Tuesday, December 9, 2008:

(a) SAB Quality Review of the Draft Report from the SAB Committee for the Valuation of Ecological Systems and Services (C-VPESS). The Chartered Science Advisory Board will conduct a quality review of the draft final SAB report from its Committee for Valuing the Protection of Ecological Systems and Services. The report is an original SAB study, initiated in 2003. The committee's charge was to assess EPA valuation needs; assess the state of the art and science of valuing protection of ecological systems and services; and identify key areas for improving knowledge, methodologies, practice, and research. The report takes a multi-disciplinary approach to ecological valuation issues. Additional information on this topic is available on the SAB Web site at http://yosemite.epa.gov/sab/sabproduct.nsf/fedrgstr_activities/Ecological%20Valuation?OpenDocument.

(b) EPA Biofuels Briefing: On October 27, 2008, the Science Advisory Board conducted a seminar entitled “Looking to the Future” as part of an ongoing effort to consider EPA's long-range strategic research vision. A part of that meeting focused on the environmental implications of biofuels. During the SAB's December 9, 2008 telephone conference, the Board will receive a briefing from representatives of the EPA OAR Office of Transportation and Air Quality on the status of the agency's renewable fuels program rule development process. This information will provide additional background information to the SAB as it considers how it might further advise the EPA Administrator on the Agency's research program.

Background: SAB Telephone Conference, Tuesday, December 16, 2008:

(a) SAB Quality Review of the Draft SAB Panel Report on the EPA Particulate Matter (PM) Research Centers Program. The chartered Science Advisory Board will conduct a quality review of the draft SAB report from its Particulate Matter Research Centers Program Review Advisory Panel. In 1998, the Congress directed EPA to establish as many as five university-based PM research centers as part of the Agency's PM research program. The first PM Research Centers were funded from 1999 to 2005 with a total program budget of $8 million annually. EPA's PM Research Centers program was initially shaped by recommendations from the National Research Council. In 2002, EPA requested that the Science Advisory Board conduct an interim review of EPA's PM Research Centers program. This review was instrumental in providing additional guidance for the second phase of the program (2005-2010). Five current centers are funded for 2005-2010 with the total program budget at $40 million. EPA's National Center for Environmental Research (NCER), within the Office of Research and Development (ORD), requested that the SAB comment on the Agency's current PM Research Centers program and to advise EPA concerning the possible structures and strategic direction for the program from 2010 to 2015. The SAB formed the PM Research Centers Program Advisory Panel to conduct this review. The Panel met to review and discuss the program on October 1-2, 2008 and has now completed a draft report providing the results of its deliberations. Additional information on this review is available on the SAB Web site at http://yosemite.epa.gov/sab/sabproduct.nsf/fedrgstr_activities/2008%20PM%2Centers%20Program%;20Review?OpenDocument.

(b) SAB Quality Review of the Draft SAB Contaminant Candidate List 3 Advisory. The Chartered Science Advisory Board will conduct a second quality review of the draft SAB Drinking Water Committee (DWC) report on EPA's Drinking Water Contaminant Candidate List 3. This report was the subject of a quality review at the SAB's October 28, 2008 meeting. At that meeting, the Chartered SAB asked for some revisions relative to the comments made by SAB members during that meeting (see these comments on the SAB Web site at the following URL http://yosemite.epa.gov/sab/sabproduct.nsf/A3B59D3624B2B1DA852574EB006DD0C9/$File/;SAB+Comments+on+CCL+3+Oct+28+08+Meeting.pdf) and that the report be returned to the SAB for completion of the quality review. The DWC review was conducted at the request of the EPA Office of Water. The 1996 Safe Drinking Water Act Amendments (SDWA) require EPA to (1) publish every five years a list of currently unregulated contaminants in drinking water that may pose risks and (2) make determinations on whether or not to regulate at least five contaminants from that list on a staggered five year cycle. The list must be published after consultation with the scientific community, including the SAB, after notice and opportunity for public comment, and after consideration of the occurrence database established under section 1445(g) of the SDWA. The unregulated contaminants considered for the list must include, but are not limited to, substances referred to in section 101(14) of the Comprehensive Environmental Response, Compensation, and Liability Act of 1980 (CERCLA), and substances registered under the Federal Insecticide, Fungicide, and Rodenticide Act (FIFRA). Additional information on this review can be obtained on the EPA SAB Web site at http://yosemite.epa.gov/sab/sabproduct.nsf/fedrgstr_activities/CCL3.

Availability of Meeting Materials: The agenda and other materials in support of this meeting will be placed on the SAB Web site at http://www.epa.gov/sab in advance of this meeting.

Procedures for Providing Public Input: Interested members of the public may submit relevant written or oral information for the SAB to consider during this teleconference.

Oral Statements: In general, individuals or groups requesting time to make an oral presentation at a public SAB teleconference will be limited to three minutes, with no more than one-half hour for all speakers. At face-to-face meetings, presentations will be limited to five minutes, with no more than a total of one hour for all speakers. To be placed on the public speaker list, parties interested in the December 9, 2008 meeting should contact Mr. Thomas Miller, DFO, in writing (preferably by e-mail), by December 2, 2008 at the contact information provided above. Parties interested in the December 16, 2008 meeting should contact Mr. Thomas Miller, DFO, in writing (preferably by e-mail), by December 9, 2008 at the contact information provided above.

Written Statements: Written statements relevant to the December 9, 2008 meeting should be received in the SAB Staff Office by December 2, 2008, and written statements relevant to the December 16 meeting should be received in the SAB Staff Office by December 9, 2008 so that the information may be made available to the SAB for their consideration prior to these teleconference meetings. Written statements should be supplied to the DFO via e-mail to miller.tom@epa.gov (acceptable file format: Adobe Acrobat PDF, WordPerfect, MS Word, MS PowerPoint, or Rich Text files in IBM-PC/Windows 98/2000/XP format).

Accessibility: For information on access or services for individuals with disabilities, please contact Mr. Thomas Miller at (202) 343-9982, or miller.tom@epa.gov. To request accommodation of a disability, please contact Mr. Miller, preferably at least 10 days prior to the meeting, to give EPA as much time as possible to process your request.

Dated: November 14, 2008.
Vanessa T. Vu,
Director, EPA Science Advisory Board Staff Office.

[FR Doc. E8-27612 Filed 11-19-08; 8:45 am]

BILLING CODE 6560-50-P